DEPARTMENT OF HEALTH AND HUMAN SERVICES

National Institutes of Health

National Cancer Institute; Amended Notice of Meeting

Notice is hereby given of a change in the meeting of the National Cancer Institute Special Emphasis Panel, June 18, 2020, 8:00 a.m. to June 19, 2020, 5:00 p.m., National Cancer Institute Shady Grove, 9609 Medical Center Drive, Rockville, MD 20850 which was published in the Federal Register on April 10, 2020, 85 FR 20282.

This notice is being amended to change the meeting times. The teleconference meeting will now be held June 18, 2020, 10:00 a.m. to June 19, 2020, 4:00 p.m. The meeting is closed to the public.

Dated: April 29, 2020.
Melanie J. Pantoja,
Program Analyst, Office of Federal Advisory Committee Policy.

[FR Doc. 2020-09516 Filed 5-4-20; 8:45 am]

BILLING CODE 4140-01-P